ENVIRONMENTAL PROTECTION AGENCY

[FRL-6891-1]

Good Neighbor Environmental Board Meeting

AGENCY: Environmental Protection Agency (EPA).

ACTION: Notice of meeting.

SUMMARY: The next meeting of the Good Neighbor Environmental Board, a federal advisory committee focused on environmental sustainability within the U.S.-Mexico border region, will take place in Brownsville, Texas, on November 2nd and 3rd, 2000. It will last from 8:30 a.m.—4:30 p.m. on Thursday, November 2nd, and from 8 a.m. until noon on Friday, November 3rd. The entire meeting is open to the public.

Location: The meeting will take place at the Fort Brown Hotel & Resort (Holiday Inn), located at 1900 East Elizabeth Street in Brownsville, Texas. The hotel is one block from the international bridge to Mexico.

Agenda: During the morning of the first day, the draft agenda calls for report-outs from Board Members on border-region activities, several informational briefings from local officials and organizations, and a public comment session late morning. After lunch, the meeting will continue with another guest presentation, followed by a planning session for the Board's upcoming Fifth Report to the President and Congress of the United States. The hotel site portion of the meeting currently is scheduled to end at 4:30 p.m., after which the Board will travel to the Cameron Park Community Center, 2100 Gregory, Brownsville for a briefing and informal discussion with Center officials scheduled to begin at approximately 5:30 p.m.

The second day of the meeting primarily will focus on ongoing Board business such as dissemination of the Board's Fourth Report, strategy sessions on increasing visibility, development of potential themes for upcoming reports, and additional discussion on the framework for its next report.

Public Attendance: The public is welcome to attend all portions of the meeting. Members of the public who plan to file written statements and/or make brief oral statements at the public comment session on the morning of November 2nd are encouraged to contact the Designated Federal Officer for the Board prior to the meeting.

Background: The Good Neighbor Environmental Board was created by the Enterprise for the Americans Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The Board meets three times annually, primarily in various border locations. The U.S. Environmental Protection Agency gives notice of this meeting of the Good Neighbor Environmental Board pursuant to the Federal Advisory Committee Act (Pub. L. 92-463).

FOR FURTHER INFORMATION CONTACT: Elaine M. Koerner, Designated Federal Officer for the Good Neighbor Environmental Board: Office of Cooperative Environmental Management, Office of the Administrator, USEPA, MC1601A, 1200 Pennsylvania Ave. NW., Washington, DC 20004, (202) 564-1484, koerner.elaine@epa.gov.

Dated: October 13, 2000.
Elaine M. Koerner,
DFO, Good Neighbor Environmental Board.

[FR Doc. 00-27402 Filed 10-24-00; 8:45 am]

BILLING CODE 6560-50-P